NATIONAL SCIENCE FOUNDATION

Advisory Panel for Neuroscience; Notice of Meeting

In accordance with the Federal Advisory Committee Act (Pub. L. 92-463, as amended), the National Science Foundation announces the following meeting:

Name: Advisory Panel for Neuroscience (1158).

Date/Time: April 26-28, 2000; 8:00 a.m. to 5:00 p.m.

Place: Room 330, 4201 Wilson Boulevard, Arlington, VA.

Type of Meeting: Part-Open.

Contact Person: Dr. Sonya Sobrian, Program Director, Behavioral Neuroscience; Dr. Roy White, Program Director, Computational Neuroscience; Division of Integrative Biology and Neuroscience, Suite 685, National Science Foundation, 4201 Wilson Blvd., Arlington, VA 22230. (703) 306-1416.

Purpose of Meeting: To provide advice and recommendations concerning proposals submitted to NSF for financial support.

Minutes: May be obtained from the contact person listed above.

Agenda: Open Session: April 28, 2000; 10:00 a.m. to 11:00 a.m., to discuss goals and assessment procedures. Closed Session: April 26-27; 8:00 a.m. to 5:00 p.m.; April 28, 9:00 a.m. to 10:00 a.m., and 11:00 a.m. to 5:00 p.m. To review and evaluate Behavioral Computational Neuroscience proposals as part of the selection process for awards.

Reason for Closing: The proposals being reviewed include information of a proprietary or confidential nature, including technical information; financial data, such as salaries; and personal information concerning individuals associated with the proposals. These matters are exempt under 5 U.S.C. 552b(c) (4) and (6) of the Government in the Sunshine Act.

Dated: February 1, 2000.
Karen J. York,
Committee Meeting Officer.

[FR Doc. 00-2736 Filed 2-7-00; 8:45 am]

BILLING CODE 7555-01-M